FEDERAL TRADE COMMISSION

16 CFR Part 306

Automotive Fuel Ratings, Certification, and Posting

AGENCY: Federal Trade Commission (“FTC” or “Commission”).

ACTION: Extension of comment period.

SUMMARY: In an April 4, 2014 Federal Register Notice, the Federal Trade Commission (“Commission”) proposed amending its Fuel Rating Rule to provide revised rating, certification, and labeling requirements for blends of gasoline and more than 10 percent ethanol (“ethanol blends”) and an additional octane rating method for gasoline. The NPRM requested comments on the proposed amendments, and stated that comments must be received on or before June 2, 2014. In response to a request to extend the comment period received on May 20, 2014, the Commission is extending the comment period from June 2, 2014 to July 2, 2014.

DATES: Comments addressing the Automotive Fuel Ratings, Certification, and Posting NPRM must be received on or before July 2, 2014.

FOR FURTHER INFORMATION CONTACT: Miriam R. Lederer, (202) 326- 2975, R. Michael Waller, (202) 326-2902, Division of Enforcement, Federal Trade Commission, 600 Pennsylvania Avenue NW., Washington, DC 20580.

ADDRESSES: Interested parties may file a comment online or on paper, by following the instructions in the Request for Comment part of the SUPPLEMENTARY INFORMATION section below. Write “Fuel Rating Rule Review, 16 CFR Part 306, Project No. R811005” on your comment, and file your comment online at https://ftcpublic.commentworks.com/ftc/autofuelratingscertnprm by following the instructions on the web-based form. If you prefer to file your comment on paper, mail your comment to the following address: Federal Trade Commission, Office of the Secretary, 600 Pennsylvania Avenue NW., Suite CC-5610 (Annex N), Washington, DC 20580, or deliver your comment to the following address: Federal Trade Commission, Office of the Secretary, Constitution Center, 400 7th Street SW., 5th Floor, Suite 5610 (Annex N), Washington, DC 20024.

SUPPLEMENTARY INFORMATION: The Commission is extending the comment period for its NPRM on proposed amendments to the Fuel Rating Rule to July 2, 2014. The Commission's NPRM ¹ proposed amendments in two areas. First, the NPRM proposed rating, certification, and labeling requirements for blends of gasoline with more than ten percent ethanol. Second, it proposed an additional octane rating method that uses infrared sensor technology. The NPRM's comment period was to end on June 2, 2014.

¹ Federal Trade Commission: Automotive Fuel Ratings, Certification and Posting: Notice of Proposed Rulemaking, 79 FR 18850 (Apr. 4, 2014).

In a May 20, 2014 letter, the following stakeholders requested that the Commission extend the comment period by 30 days: Auto Alliance, Global Auto Manufacturers, Outdoor Power Equipment Institute, and National Marine Manufacturers Association. The Commission is extending the deadline as requested. The Commission recognizes that its proposal raises significant issues and believes that extending the comment period will facilitate a more complete record.

You can file a comment online or on paper. For the Commission to consider your comment, we must receive it on or before July 2, 2014. Write “Fuel Rating Rule Review, 16 CFR Part 306, Project No. 811005” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, such as anyone's Social Security number, date of birth, driver's license number or other state identification number or foreign country equivalent, passport number, financial account number, or credit or debit card number. You are also solely responsible for making sure that your comment does not include any sensitive health information, such as medical records or other individually identifiable health information. In addition, do not include any “[t]rade secret or any commercial or financial information . . . which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names. If you want the Commission to give your comment confidential treatment, you must file it in paper form, with a request for confidential treatment, and you have to follow the procedure explained in FTC Rule 4.9(c), 16 CFR 4.9(c). Your comment will be kept confidential only if the FTC General Counsel grants your request in accordance with the law and the public interest.

Postal mail addressed to the Commission is subject to delay due to heightened security screening. As a result, we encourage you to submit your comments online. To make sure that the Commission considers your online comment, you must file it at https://ftcpublic.commentworks.com/ftc/autofuelratingscertnprm, by following the instructions on the web-based form. If this Notice appears at http://www.regulations.gov, you also may file a comment through that Web site.

If you prefer to file your comment on paper, write “Fuel Rating Rule Review, 16 CFR Part 306, Project No. R811005” on your comment and on the envelope and mail your comment to the following address: Federal Trade Commission, Office of the Secretary, 600 Pennsylvania Avenue NW., Suite CC-5610 (Annex N), Washington, DC 20580, or deliver your comment to the following address: Federal Trade Commission, Office of the Secretary, Constitution Center, 400 7th Street SW., 5th Floor, Suite 5610 (Annex N), Washington, DC 20024. If possible, submit your paper comment to the Commission by courier or overnight service.

Visit the Commission Web site at http://www.ftc.gov to read the April 4, 2014 NPRM and the news release describing it. The FTC Act and other laws that the Commission administers permit the collection of public comments to consider and use in this proceeding as appropriate.

The Commission will consider all timely and responsive public comments that it receives on or before July 2, 2014. You can find more information, including routine uses permitted by the Privacy Act, in the Commission's privacy policy, at http://www.ftc.gov/ftc/privacy.htm.

By direction of the Commission.
Donald S. Clark,
Secretary.

[FR Doc. 2014-12759 Filed 6-2-14; 8:45 am]

BILLING CODE 6750-01-P